DEPARTMENT OF TRANSPORTATION

Federal Aviation Administration

[Docket No. FAA-2004-16944]

Notice of Availability

AGENCY: Federal Aviation Administration (FAA), DOT.

ACTION: Notice of availability.

SUMMARY: This notice announces the availability of an Order dated January 21, 2004, requiring American Airlines/American Eagle and United Airlines/United Express to limit total scheduled arriving and departing flights during certain hours at Chicago O'Hare International Airport (ORD), beginning no later than March 4, 2004, and continuing through September 1, 2004.

Availability of Order: A copy of the FAA Order has been place din the Department of Transportation Docket (Docket No. FAA-2004-16944). The Docket Web site is http://dms.dot.gov.

FOR FURTHER INFORMATION CONTACT: Lorelei Peter, Senior Attorney, Office of the Chief Counsel, AGC-220, Federal Aviation Administration, 800 Independence Ave., SW., Washington, DC 20591; telephone number: (202) 267-3134.

SUPPLEMENTARY INFORMATION: On January 21, 2004, the FAA Administrator issued an Order requiring American Airlines/American Eagle and United Airlines/United Express to each reduce by five percent their total scheduled operations at ORD from 1 p.m. through 7:59 p.m. local time beginning no later than March 4, 2004, and continuing through September 1, 2004. The schedule reduction was needed to decrease an unacceptable level of air traffic delays related to flights scheduled in excess of the airport's capacity.

Issued in Washington, DC, on January 29, 2004.
Donald P. Byrne,
Assistant Chief Counsel, Regulations Division.

[FR Doc. 04-2444 Filed 2-4-04; 8:45 am]

BILLING CODE 4910-13-M